DEPARTMENT OF HEALTH AND HUMAN SERVICES

Health Resources and Services Administration

Advisory Committee on Training in Primary Care Medicine and Dentistry; Notice of Meeting

In accordance with section 10(a)(2) of the Federal Advisory Committee Act (Public Law 92-463), notice is hereby given of the following meeting:

Name: Advisory Committee on Training in Primary Care Medicine and Dentistry.

Date and Time: May 17, 2007, 8:30 a.m.-4:30 p.m. and May 18, 2007, 8:00 a.m.-2:00 p.m.,

Place: Hilton Washington, DC/Rockville Executive Meeting Center, 1750 Rockville Pike, Rockville, Maryland 20852.

Status: The meeting will be open to the public.

Purpose: The Advisory Committee provides advice and recommendations on a broad range of issues dealing with programs and activities authorized under section 747 of the Public Health Service Act as amended by The Health Professions Education Partnership Act of 1998, Public Law 105-392. At this meeting the Advisory Committee will begin work on its seventh report which will be submitted to Congress and to the Secretary of the Department of Health and Human Services.

Agenda: The meeting on Thursday, May 17 will begin with opening comments from the Chair of the Advisory Committee and introductory remarks from senior management of the Health Resources and Services Administration. A plenary session will follow in which the Advisory Committee will select a topic for its seventh report and develop a plan for completion of the report. In both small groups and in the plenary session, the Advisory Committee will determine recommendations for the report. An opportunity will be provided for public comment.

On Friday, May 18 the Advisory Committee will continue work on the seventh report. The Advisory Committee will plan next steps in the report preparation process. An opportunity will be provided for public comment.

For Further Information Contact: Anyone interested in obtaining a roster of members or other relevant information should write or contact Jerilyn K. Glass, M.D., Ph.D., Division of Medicine and Dentistry, Bureau of Health Professions, Health Resources and Services Administration, Room 9A-27, Parklawn Building, 5600 Fishers Lane, Rockville, Maryland 20857, Telephone (301) 443-6785. The Web address for information on the Advisory Committee is http://bhpr.hrsa.gov/medicine-dentistry/actpcmd.

Dated: March 27, 2007.
Alexandra Huttinger,
Acting Director, Division of Policy Review and Coordination.

[FR Doc. E7-6368 Filed 4-4-07; 8:45 am]

BILLING CODE 4165-15-P